DEPARTMENT OF ENERGY

Federal Energy Regulatory Commission

Combined Notice of Filings #1

Take notice that the Commission received the following electric corporate filings:

Docket Numbers: EC17-148-000.

Applicants: Great Bay Solar I, LLC, Great Bay Solar I Holdings, LLC, GB Solar Holdings, LLC.

Description: Application for Authorization under Section 203 of the Federal Power Act the Disposition of Jurisdictional Facilities, Request for Expedited Consideration and Confidential Treatment of Great Bay Solar I, LLC, et al.

Filed Date: 8/3/17.

Accession Number: 20170803-5126.

Comments Due: 5 p.m. ET 8/24/17.

Take notice that the Commission received the following exempt wholesale generator filings:

Docket Numbers: EG17-136-000.

Applicants: Moffett Solar 1, LLC.

Description: Self-Certification as Exempt Wholesale Generator of Moffett Solar 1, LLC.

Filed Date: 8/3/17.

Accession Number: 20170803-5088.

Comments Due: 5 p.m. ET 8/24/17.

Take notice that the Commission received the following electric rate filings:

Docket Numbers: ER17-2232-000.

Applicants: PJM Interconnection, L.L.C.

Description: § 205(d) Rate Filing: Revisions to OATT Part IV re: Alternate Queue to be effective 10/1/2017.

Filed Date: 8/2/17.

Accession Number: 20170802-5171.

Comments Due: 5 p.m. ET 8/23/17.

Docket Numbers: ER17-2233-000.

Applicants: The Dayton Power and Light Company.

Description: § 205(d) Rate Filing: DP&L Reactive Power Tariff Filing to be effective 10/1/2017.

Filed Date: 8/3/17.

Accession Number: 20170803-5075.

Comments Due: 5 p.m. ET 8/24/17.

Docket Numbers: ER17-2234-000.

Applicants: Delmarva Power & Light Company.

Description: § 205(d) Rate Filing: Construction Agreements Filing to be effective 10/3/2017.

Filed Date: 8/3/17.

Accession Number: 20170803-5078.

Comments Due: 5 p.m. ET 8/24/17.

Docket Numbers: ER17-2235-000.

Applicants: Atlantic City Electric Company.

Description: Baseline eTariff Filing: Construction Agreement Filing to be effective 10/3/2017.

Filed Date: 8/3/17.

Accession Number: 20170803-5080.

Comments Due: 5 p.m. ET 8/24/17.

Docket Numbers: ER17-2236-000.

Applicants: Midcontinent Independent System Operator, Inc.

Description: § 205(d) Rate Filing: 2017-08-03_Coordinated Transaction Scheduling True-up Filing to be effective 10/3/2017.

Filed Date: 8/3/17.

Accession Number: 20170803-5104.

Comments Due: 5 p.m. ET 8/24/17.

Docket Numbers: ER17-2237-000.

Applicants: California Independent System Operator Corporation.

Description: § 205(d) Rate Filing: 2017-08-03 Black Start Phase 2 Amendment to be effective 11/1/2017.

Filed Date: 8/3/17.

Accession Number: 20170803-5133.

Comments Due: 5 p.m. ET 8/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2017.
Nathaniel J. Davis, Sr.,
Deputy Secretary.

[FR Doc. 2017-16759 Filed 8-8-17; 8:45 am]

BILLING CODE 6717-01-P